DEPARTMENT OF TRANSPORTATION

Federal Aviation Administration

14 CFR Part 73

[Docket No. FAA-2005-22680; Airspace Docket No. 05-ASW-3]

RIN 2120-AA66

Proposed Establishment of Restricted Area 5601F; Fort Sill, OK

AGENCY: Federal Aviation Administration (FAA), DOT.

ACTION: Notice of proposed rulemaking.

SUMMARY: This action proposes to establish Restricted Area 5601F (R-5601F) at Fort Sill, OK. The United States (U.S.) Army requests that the FAA take action to establish R-5601F to provide additional airspace needed to support new high angle air-to-ground training requirements for Air Force, Navy, and Marine aircraft operating over the Falcon Bombing Range. This action would also enhance Fort Sill's ability to host joint training.

DATES: Comments must be received on or before December 19, 2005.

ADDRESSES: Send comments on this proposal to the Docket Management System, U.S. Department of Transportation, Room Plaza 401, 400 Seventh Street, SW., Washington, DC 20590-0001. You must identify FAA Docket No. FAA-2005-22680 and Airspace Docket

No. 05-ASW-3, at the beginning of your comments. You may also submit comments through the Internet at http://dms.dot.gov.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-22680 and Airspace Docket No. 05-ASW-3) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-22680 and Airspace Docket No. 05-ASW-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person at the Dockets Office (see ADDRESSES section for address and phone number) between 9 a.m. and 5 p.m., Monday through Friday, except Federal holidays. An informal docket may also be examined during normal business hours at the office of the Regional Air Traffic Division, Federal Aviation Administration, 2601 Meacham Blvd; Fort Worth, TX 76193-0500.

Persons interested in being placed on a mailing list for future NPRM's should contact the FAA's Office of Rulemaking, (202) 267-9677, for a copy of Advisory Circular No. 11-2A, Notice of Proposed Rulemaking Distribution System, which describes the application procedure.

History

On March 1, 2005, the U.S. Army requested that the FAA take action to establish R-5601F. Specifically, the requested action would provide additional airspace needed to support new high angle air-to-ground training requirements for Air Force, Navy, and Marine aircraft operating over the Falcon Bombing Range. Specifically, R-5601F would provide additional maneuvering area needed for aircraft conducting training in adjacent restricted areas R-5601B and R-5601C which are located over the West Range Target Area and the Falcon Bombing Range, respectively. This action would also enhance Fort Sill's ability to host joint training.

The Proposal

At the request of the U.S. Army, the FAA is proposing an amendment to Title 14 Code of Federal Regulations (14 CFR) part 73 to establish R-5601F adjacent to and north of R-5601B and R-5601C. Establishment of the new restricted area would provide additional airspace needed to support new high angle air-to-ground training requirements for Air Force, Navy, and Marine aircraft operating over the Falcon Bombing Range and would enhance Fort Sill's ability to host joint training.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.56 [Amended]

2. Section 73.56 is amended as follows:

* * * * *

R-5601F Fort Sill, OK (New)

Boundaries. Beginning at lat. 34°46′24″ N., long. 98°52′00″ W.; thence clockwise via the 49 NM arc of SPS VORTAC to lat. 34°47′00″ N., long. 98°51′00″ W.; to lat. 34°43′46″ N., long. 98°49′55″ W.; thence clockwise via the 46 NM arc of SPS VORTAC to lat. 34°45′03″ N., long. 98°29′46″ W.; to lat. 34°46′15″ N., long. 98°25′01″ W.; to lat. 34°47′00″ N., long. 98°17′46″ W.; to lat. 34°46′45″ N., long. 98°17′01″ W.; to lat. 34°46′06″ N., long. 98°17′01″ W.; to lat. 34°46′06″ N., long. 98°21′01″ W.; to lat. 34°43′45″ N., long. 98°21′01″ W.; to lat. 34°43′30″ N., long. 98°21′21″ W.; to lat. 34°43′30″ N., long. 98°35′40″ W.; to lat. 34°45′00″ N., long. 98°40′31″ W.; to lat. 34°42′15″ N., long. 98°50′01″ W.; to the point of beginning. Excluding that airspace: (1) Below 5500 feet MSL beginning at lat. 34°44′28″ N., long. 98°46′16″ W.; thence clockwise via the 46 NM arc of SPS VORTAC to lat. 34°45′09″ N., long. 98°30′57″ W.; to lat. 34°43′30″ N., long. 98°30′00″ W.; to lat. 34°43′30″ N., long. 98°35′40″ W.; to lat. 34°45′00″ N., long. 98°40′31″ W.; to lat. 34°43′09″ N., long. 98°46′56″ W.; to the point of beginning; and, (2) below 3500 feet MSL within a 1 NM radius of lat. 34°46′46″ N., long. 98°17′46″ W.

Designated altitudes. 500 feet AGL to FL 400.

Times of Designation. Sunrise to 2200 local time, Monday-Friday; other times by NOTAM.

Controlling Agency. FAA, Fort Worth ARTCC.

Using Agency. Commanding General, United States Army Field Artillery Center (USAFACFS), Fort Sill, OK.

* * * * *

Issued in Washington, DC, October 27, 2005.
Edith V. Parish,
Manager, Airspace and Rules.

[FR Doc. 05-21878 Filed 11-1-05; 8:45 am]

BILLING CODE 4910-13-P